DEPARTMENT OF THE INTERIOR

Minerals Management Service

30 CFR Part 250

[Docket ID: MMS-2007-OMM-0068]

RIN 1010-AD47

Annular Casing Pressure Management for Offshore Wells

AGENCY: Minerals Management Service (MMS), Interior.

ACTION: Proposed rule.

SUMMARY: This proposed rule would establish regulations to address sustained casing pressure in oil and gas wells completed on the Outer Continental Shelf. Sustained casing pressure is a problem that, if left untreated, could cause serious harm to human life or the environment. The proposed rule would establish criteria for monitoring and testing of wells with sustained casing pressure, and would also incorporate the American Petroleum Institute's Recommended Practice for managing annular casing pressure. New regulations are needed because the current regulations do not adequately address requirements for wells that have sustained casing pressure. This rule would promote human safety and environmental protection, and require Outer Continental Shelf lessees to follow best industry practices for wells with sustained casing pressure.

DATES: Submit comments by September 29, 2009. The MMS may not fully consider comments received after this date. Submit comments to the Office of Management and Budget on the information collection burden in this proposed rule by August 31, 2009. This does not affect the deadline for the public to comment to MMS on the proposed regulations.

ADDRESSES: You may submit comments on the rulemaking by any of the following methods. Please use the Regulation Identifier Number (RIN) 1010-AD47 as an identifier in your message. See also Public Availability of Comments under Procedural Matters.

• Federal eRulemaking Portal: http://www.regulations.gov. Under the tab “More Search Options,” click “Advanced Docket Search,” then select “Minerals Management Service” from the agency drop-down menu, then click submit. In the Docket ID column, select MMS-2007-OMM-0068 to submit public comments and to view supporting and related materials available for this rulemaking. Information on using Regulations.gov, including instructions for accessing documents, submitting comments, and viewing the docket after the close of the comment period, is available through the site's “User Tips” link. The MMS will post all comments.

• Mail or hand-carry comments to the Department of the Interior; Minerals Management Service; Attention: Regulations and Standards Branch (RSB); 381 Elden Street, MS-4024, Herndon, Virginia 20170-4817. Please reference Annular Casing Pressure Management for Offshore Wells, 1010-AD47 in your comments and include your name and return address.

• Send comments on the information collection in this rule to: Interior Desk Officer 1010-AD47, Office of Management and Budget; 202-395-5806 (fax); e-mail: oira_docket@omb.eop.gov. Please also send a copy to MMS.

FOR FURTHER INFORMATION CONTACT: For comments or questions on procedural issues, contact Kirk Malstrom, Office of Offshore Regulatory Programs, Regulations and Standards Branch, 703-787-1751. For questions on technical issues, contact Russell Hoshman, Technical Assessment and Operations Support Section, Gulf of Mexico Outer Continental Shelf Region, 504-736-2627.

SUPPLEMENTARY INFORMATION: Background: Sustained casing pressure (SCP) is pressure between the casing and the well's tubing, or between strings of casing, that rebuilds after being bled down. Data gathered by MMS have shown that SCP is most often caused by leaks in the production tubing and tubing connectors. It is also caused by poorly cemented casing, channeling in the cemented annulus, and leaks in seals or other equipment. If left uncontrolled, this SCP represents an ongoing safety hazard and can cause serious or immediate harm or damage to human life, the marine and coastal environment, and property. During the period from 1980 to 1990, the oil and gas industry in the Gulf of Mexico (GOM) suffered four serious accidents as a result of high SCP, and the lack of proper control and monitoring of these pressures. In response, MMS developed a policy for the GOM Outer Continental Shelf (OCS) under which lessees could effectively monitor the SCP of wells in an attempt to prevent future accidents.

As far back as 1977, OCS Order No. 6, Completion of Oil and Gas Wells, required the testing and repair of all wells that exhibit SCP. The current regulation at 30-CFR-250.517 addresses tubing and wellhead equipment. Paragraph (a) of § 250.517 requires that tubing strings must maintain pressure integrity. Paragraph (c) requires that wellheads be equipped to monitor SCP in all casing annuli, and stipulates that the lessee must notify the District Manager if SCP is observed. The primary intent of this regulation, with respect to SCP, is to achieve and maintain pressure control of wells. Since that regulation was issued in 1988, MMS has interpreted § 250.517(c) to mean that no SCP is to be maintained on any annulus of an OCS well. With over 8,000 affected wells in the GOM with SCP in at least one annuli, immediate elimination of all SCP has proved to be impractical and exceedingly costly. The MMS has sought to identify and eliminate SCP in cases that represent a clear hazard to the safety of personnel or the environment and establish a monitoring system for the rest, all the while working towards elimination of the problem.

The MMS's SCP policy was then further revised with the issuance of the 1991 and 1994 Letters to Lessees (LTLs). These documents provided further clarification regarding wells with SCP, reporting procedures, time retention of field records, and departure procedures. Using the procedures of these LTLs, departures from the requirement for no SCP were requested and approved under § 250.142. Since the 1994 LTL was issued, MMS has identified areas of concern with the existing reporting, testing, and monitoring procedures. Once the final rulemaking becomes effective, the 1994 LTL will be rescinded.

On November 9, 2001, MMS published a notice of proposed rulemaking (66 FR 56620) to add SCP requirements to 30 CFR part 250, subpart E. Various industry representatives commented and had concerns about the 2001 notice of proposed rulemaking. Industry proposed a research project to study and develop guidance for annular casing pressure and MMS agreed. In August 2006, industry completed the first step in managing annular casing pressure by publishing the American Petroleum Institute's Recommended Practice 90, Annular Casing Pressure Management for Offshore Wells (API RP 90). The API RP 90 largely utlilizes monitoring, diagnostic testing, and documentation to establish an annular casing pressure management program. The next step for industry would be to develop API RP 65-3, which identifies practices to prevent or remediate casing pressure in existing wells.

The API, industry, and MMS have worked collectively to produce API RP 90. As explained in section three of API RP 90, this RP is based on establishing an annular casing pressure management program that filters out nonproblematic wells that present an acceptable level of risk, thus allowing for a more focused effort on wells that are problematic. The management program, as outlined in API RP 90, includes monitoring, diagnostic testing, determining maximum allowable wellhead operating pressure (MAWOP) for each annulus, documentation, and risk assessment considerations.

The cooperative efforts of both industry and MMS have shown the importance and need to manage annular casing pressure. This proposed rulemaking would clarify the intended policy and procedures, and incorporate API RP 90 into MMS regulations. Along with the incorporation of API RP 90, new sections would be added to subparts E and F. The new sections proposed to be added in subpart E include additional requirements and clarifications beyond that of API RP 90. The MMS believes the level of risk in some particulars of API RP 90 needs to be clarified and enhanced; therefore additional requirements are explained in more detail in applicable sections. The following contains a brief section by section review of the proposed requirements:

Tubing and Wellhead Equipment (§ 250.517)

In this section, only paragraph (c) would be changed. A chart would be added to clarify the requirements of the different well types for casing pressure monitoring. The current regulation does not apply to subsea and hybrid wells.

What are the requirements for casing pressure management? (§ 250.518)

This section states that MMS would require you to follow API RP 90 and the proposed requirements in §§ 250.519 through 250.530. It also emphasizes that if there is a conflict between API RP 90 and §§ 250.519 through 250.530, you must adhere to the latter.

How often do I have to monitor for casing pressure? (§ 250.519)

With many different well types in the OCS, a table would be added to clarify when you must monitor each type of well and how often you must record your pressure data.

When do I have to perform a casing diagnostic test? (§ 250.520)

This section states that a casing diagnostic test would be required only if you experience casing pressure under the criteria listed for each well type. There is an exemption to the requirements of this section. You are exempt from performing a diagnostic pressure test for the production casing on a well operating under active gas lift.

How do I manage the thermal effects caused by initial production on a newly completed or recompleted well? (§ 250.521)

A newly completed or recompleted well often has thermal casing pressure during initial startup. Bleeding casing pressure and casing fluids during the startup process is considered a normal and necessary operation to manage casing pressure; therefore, you do not need to evaluate these operations as casing diagnostic tests. However, after you complete startup operations, and if you observe casing pressure, then the provisions of this section apply.

When do I have to repeat casing diagnostic testing? (§ 250.522)

This section explains the various instances in which you would have to repeat casing diagnostic testing. Most repeat tests are attributed to timing, pressure, or corrective action.

How long do I keep records of casing pressure and diagnostic tests? (§ 250.523)

This section explains how long you would have to keep pressure test data in the field office closest to your well. This is so your personnel may access the data, and that such data would be available for MMS inspection. Requiring the last diagnostic test be kept at the nearest field office until the well is abandoned helps assure that the abandonment design properly addresses casing pressure issues.

When am I required to take action from my casing diagnostic test? (§ 250.524)

This section clarifies when action is required based on the results of the diagnostic test. By focusing on specific pressure requirements, this section will assist lessees and operators in determining when they need to take action regarding casing pressure, and limit the number of casing pressure requests. Once the rulemaking becomes effective, NTL 2005 G-09 would be rescinded. Under paragraph (d), you must submit a casing pressure request if a well that has increasing casing pressure is bled down to prevent it from exceeding its MAWOP, except during initial startup operations. A newly completed or recompleted well often has thermal casing pressure during initial startup. Bleeding casing pressure and casing fluids during the startup process is considered a normal and necessary operation to manage casing pressure.

What do I submit if my casing diagnostic test requires action? (§ 250.525)

This section shows when and where you must submit a notification of corrective action or casing pressure request. The new casing pressure request is equivalent to the old departure requests, in that under certain casing pressure conditions, you still need MMS approval to continue operations. In lieu of a casing pressure request, a corrective action notice can be submitted if you recognize that you have a well with annular casing pressure that requires corrective action. The MMS added the corrective action request to allow operators the ability to begin corrective action without having to go through the process of the casing pressure request and denial before they can begin corrective actions. By circumventing the casing pressure request, both MMS and industry can focus efforts on the necessary corrective actions. Submittals are to be sent to the appropriate locations to help MMS processing.

What must I include in my notification of corrective action? (§ 250.526)

This section would clarify the required contents of a notification of corrective action. Once you send in your corrective action notice, you are required, within 30 days of the diagnostic test requiring action, to submit the appropriate Application for Permit to Modify, corrective action plan, and other requirements.

What must I include in my casing pressure request? (§ 250.527)

This section would clarify the required contents of a casing pressure request. The information contained in a casing pressure request helps MMS facilitate the review and approval process.

What are the terms of my casing pressure request? (§ 250.528)

This section explains that the Regional Supervisor, Field Operations would set the term of the request and could also impose additional requirements or restrictions to allow continued operations of the well.

What if my casing pressure request is denied? (§ 250.529)

If your casing pressure request is denied, this section explains that a corrective action plan is required within 30-days of the request denial. The corrective action is sent to the District Manager because the district office is in charge of approving well operations and workovers. After the corrective action is complete and you perform the required casing diagnostic tests, you must also send the casing diagnostic test data to the Regional Supervisor, Field Operations. The Regional Supervisor, Field Operations uses the data to review and bring closure to the appropriate casing pressure issue.

When does my casing pressure request become invalid? (§ 250.530)

This section explains when your casing pressure request is no longer valid. Most casing pressure requests become invalid due to timing, pressure issues, or corrective actions.

Tubing and Wellhead Equipment (§ 250.617)

In this section, only paragraph (c) would be changed. A chart would be added to clarify the requirements of the different well types for casing pressure monitoring. The current regulation does not apply to subsea and hybrid wells.

Procedural Matters

Regulatory Planning and Review (Executive Order (E.O.) 12866)

This proposed rule is not a significant rule as determined by the Office of Management and Budget (OMB) and is not subject to review under E.O. 12866.

(1) This proposed rule would not have an annual effect of $100 million or more on the economy. It would not adversely affect in a material way the economy, productivity, competition, jobs, the environment, public health or safety, or State, local, or tribal governments or communities. There would be some costs associated with this rulemaking, mostly due to diagnostic testing, MAWOP calculations, and reporting to MMS. Taking into account paperwork burden requirements, diagnostic testing, and MAWOP calculations, the costs associated with this rulemaking would be approximately $5 million industry-wide. The proposed rule would not require any new equipment to be installed, and diagnostic testing is currently being done throughout industry and is not new.

(2) This proposed rule would not create a serious inconsistency or otherwise interfere with an action taken or planned by another agency.

(3) This proposed rule would not alter the budgetary effects of entitlements, grants, user fees, or loan programs or the rights or obligations of their recipients. The changes in the proposed rule are strictly planning requirements for management of annular casing pressure in offshore wells.

(4) This proposed rule would not raise novel legal or policy issues arising out of legal mandates, the President's priorities, or the principles set forth in E.O. 12866.

Regulatory Flexibility Act

The Department of the Interior certifies that this proposed rule would not have a significant economic effect on a substantial number of small entities under the Regulatory Flexibility Act (5 U.S.C. 601 et seq.).

The changes proposed in the rule would affect lessees and operators of leases and pipeline right-of-way holders in the OCS. This could include about 130 active Federal oil and gas lessees. Small entities that operate under this rule fall under the Small Business Administration's (SBA) North American Industry Classification System (NAICS) codes 211111, Crude Petroleum and Natural Gas Extraction, and 213111, Drilling Oil and Gas Wells. For these NAICS code classifications, a small company is one with fewer than 500 employees. Based on these criteria, an estimated 70 percent (91) of these companies are considered small. This proposed rule, therefore, would affect a substantial number of small entities. This rule would affect every well on the OCS, and every operator both large and small would have the same criteria per well regardless of company size.

Nonetheless, the changes proposed in the rule would not have a significant economic effect on a substantial number of small entities because management of annular casing pressure would be a moderate cost, mostly attributed to diagnostic testing. Taking into account recordkeeping, diagnostic testing, and MAWOP calculations, the costs associated with this rulemaking would be approximately $5 million industry-wide. In comparison, to remediate the approximate 8,000 wells with SCP at approximately $250,000 per well would cost approximately $2 billion. The costs that are associated with this rulemaking would be minor when compared to SCP remediation costs and would not impede a company of any size.

Your comments are important. The Small Business and Agriculture Regulatory Enforcement Ombudsman and 10 Regional Fairness Boards were established to receive comments from small businesses about Federal agency enforcement actions. The Ombudsman will annually evaluate the enforcement activities and rate each agency's responsiveness to small business. If you wish to comment on the actions of MMS, call 1-888-734-3247. You may comment to the Small Business Administration without fear of retaliation. Allegations of discrimination/retaliation filed with the SBA will be investigated for appropriate action.

Small Business Regulatory Enforcement Fairness Act

This proposed rule is not a major rule under 5 U.S.C. 804(2) of the Small Business Regulatory Enforcement Fairness Act. This proposed rule:

a. Would not have an annual effect on the economy of $100 million or more.

b. Would not cause a major increase in costs or prices for consumers, individual industries, Federal, State, or local government agencies, or geographic regions.

c. Would not have significant adverse effects on competition, employment, investment, productivity, innovation, or the ability of U.S.-based enterprises to compete with foreign-based enterprises.

Unfunded Mandates Reform Act of 1995

This proposed rule would not impose an unfunded mandate on State, local, or tribal governments or the private sector of more than $100 million per year. The proposed rule would not have a significant or unique effect on State, local, or tribal governments or the private sector. A statement containing the information required by the Unfunded Mandates Reform Act (2 U.S.C. 1501 et seq.) is not required.

Takings Implication Assessment (E.O. 12630)

Under the criteria in E.O. 12630, this proposed rule does not have significant takings implications. The proposed rule is not a governmental action capable of interference with constitutionally protected property rights. A Takings Implication Assessment is not required.

Federalism (E.O. 13132)

Under the criteria in E.O. 13132, this proposed rule does not have federalism implications. This proposed rule would not substantially and directly affect the relationship between the Federal and State governments. To the extent that State and local governments have a role in OCS activities, this proposed rule would not affect that role. A Federalism Assessment is not required.

Civil Justice Reform (E.O. 12988)

This rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (E.O. 13175)

Under the criteria in E.O. 13175, we have evaluated this proposed rule and determined that it has no substantial effects on federally recognized Indian tribes. There are no Indian or tribal lands in the OCS.

Paperwork Reduction Act (PRA)

The proposed rule contains no new reporting or recordkeeping requirements, and an Office of Management and Budget (OMB) submission under the PRA is not required. The PRA provides that an agency may not conduct or sponsor a collection of information unless it displays a currently valid OMB control number. Until OMB approves a collection of information and assigns a control number, you are not required to respond. The proposed regulations will replace the references to NTLs and LTLs with specific cites to the code of federal regulations. The proposed rulemaking refers to, but does not change, information collection requirements under approved OMB Control Number 1010-0067 (18,756 hours, expiration 12/31/2010).

National Environmental Policy Act

We have prepared an environmental assessment to determine whether this rule will have a significant impact on the quality of the human environment under the National Environmental Policy Act of 1969.

Data Quality Act

In developing this rule, we did not conduct or use a study, experiment, or survey requiring peer review under the Data Quality Act (Pub. L. 106-554, app. C section 515, 114 Stat. 2763, 2763A-153-154).

Effects on the Energy Supply (E.O. 13211)

This rule is not a significant energy action under the definition in E.O. 13211. A Statement of Energy Effects is not required.

Clarity of This Regulation

We are required by E.O. 12866, E.O. 12988, and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the ADDRESSES section. To better help us revise the rule, your comments should be as specific as possible. For example, you should tell us the numbers of the sections or paragraphs that you find unclear, which sections or sentences are too long, the sections where you feel lists or tables would be useful, etc.

Public Availability of Comments

Before including your address, phone number, e-mail address, or other personal identifying information in your comment, you should be aware that your entire comment—including your personal identifying information—may be made publicly available at any time. While you can ask us in your comment to withhold your personal identifying information from public review, we cannot guarantee that we will be able to do so.

List of Subjects in 30 CFR Part 250

Administrative practice and procedure, Continental shelf, Environmental protection, Incorporation by reference, Oil and gas exploration, and Reporting and recordkeeping requirements.

Dated: July 15, 2009 .
Ned Farquhar,
Acting Assistant Secretary—Land and Minerals Management.

For the reasons stated in the preamble, the Minerals Management Service (MMS) proposes to amend 30 CFR part 250 as follows:

PART 250—OIL AND GAS AND SULPHUR OPERATIONS IN THE OUTER CONTINENTAL SHELF

1. The authority citation for part 250 continues to read as follows:

Authority: 31 U.S.C. 9701, 43 U.S.C. 1334.

2. In § 250.198, add the following document incorporated by reference to the table in paragraph (e) in alphanumerical order.

§ 250.198 Documents incorporated by reference.

* * * * *

(e) * * *

Title of documents | Incorporated by reference at
* * * * * * *
API RP 90, Annular Casing Pressure Management for Offshore Wells, First Edition, August 2006, Product No. G09001 | § 250.518
* * * * * * *

3. Revise § 250.517(c) to read as follows:

§ 250.517 Tubing and wellhead equipment.

* * * * *

(c) When the tree is installed, you must equip wells to monitor for casing pressure according to the following chart:

If you have . . . | you must equip . . . | so you can monitor . . .
(1) Fixed platform wells, | the wellhead | all annuli (A, B, C, D, etc., annuli).
(2) Subsea wells, | the tubing head | the production casing annulus (A annulus).
(3) Hybrid ¹ wells, | the surface wellhead | all annuli at the surface (A and B riser annuli). If the production casing below the mudline and the production casing riser above the mudline are pressure isolated from each other, provisions must be made to monitor the production casing below the mudline for casing pressure.
¹ Characterized as a well drilled with a subsea wellhead and completed with a surface casing head, a surface tubing head, a surface tubing hangar, and a surface christmas tree.

* * * * *

4. Add an undesignated center heading and new §§ 250.518 through 250.530 to Subpart E—Oil and Gas Well-Completion Operations to read as follows:

Casing Pressure Management

Sec.
250.518 What are the requirements for casing pressure management?
250.519 How often do I have to monitor for casing pressure?
250.520 When do I have to perform a casing diagnostic test?
250.521 How do I manage the thermal effects caused by initial production on a newly completed or recompleted well?
250.522 When do I have to repeat casing diagnostic testing?
250.523 How long do I keep records of casing pressure and diagnostic tests?
250.524 When am I required to take action from my casing diagnostic test?
250.525 What do I submit if my casing diagnostic test requires action?
250.526 What must I include in my notification of corrective action?
250.527 What must I include in my casing pressure request?
250.528 What are the terms of my casing pressure request?
250.529 What if my casing pressure request is denied?
250.530 When does my casing pressure request become invalid?

§ 250.518 What are the requirements for casing pressure management?

Once you install your wellhead, you must meet the casing pressure management requirements of API RP 90 (incorporated by reference as specified in § 250.198) and the requirements of §§ 250.519 through 250.530. If there is a conflict between API RP 90 and the casing pressure requirements of this subpart, you must follow the requirements of this subpart.

§ 250.519 How often do I have to monitor for casing pressure?

You must monitor for casing pressure in your well according to the following table:

If you have . . . | you must monitor . . . | with a minimum one pressure data point recorded per . . .
(a) Fixed platform wells, | monthly | month for each casing.
(b) Subsea wells, | continuously | day for the production casing.
(c) Hybrid wells, | continuously | day for each riser and/or the production casing.
(d) Wells operating under a casing pressure request, | daily | day for each casing.
(e) Wells operating under a casing pressure request on an unmanned fixed platform, | weekly | week for each casing.

§ 250.520 When do I have to perform a casing diagnostic test?

(a) You must perform a casing diagnostic test within 30 days after first observing or imposing casing pressure according to the following table:

If you have a . . . | you must perform a casing diagnostic test if . . .
(1) Fixed platform well, | the casing pressure is greater than 100 psig.
(2) Subsea well, | the measurable casing pressure is greater than the external hydrostatic pressure plus 100 psig measured at the subsea wellhead.
(3) Hybrid well, | a riser or the production casing pressure is greater than 100 psig measured at the surface.

(b) You are exempt from performing a diagnostic pressure test for the production casing on a well operating under active gas lift.

§ 250.521 How do I manage the thermal effects caused by initial production on a newly completed or recompleted well?

A newly completed or recompleted well often has thermal casing pressure during initial startup. Bleeding casing pressure during the startup process is considered a normal and necessary operation to manage thermal casing pressure; therefore, you do not need to evaluate these operations as a casing diagnostic test. After 30 days of continuous production, the initial production startup operation is complete and you must perform casing diagnostic testing as required in §§ 250.520 and 250.522.

§ 250.522 When do I have to repeat casing diagnostic testing?

Casing diagnostic testing must be repeated according to the following table:

When . . . | you must repeat diagnostic testing . . .
(a) Your casing pressure request approved term has expired, | immediately.
(b) Your well, previously on gas lift, has been shut-in or returned to flowing status for more than 180 days, | immediately on the production casing (A annulus). The production casing (A annulus) of wells on active gas lift are exempt from diagnostic testing.
(c) Your casing pressure request becomes invalid, | within 30 days.
(d) A casing or riser has an increase in pressure greater than 200 psig over the previous casing diagnostic test, | within 30 days.
(e) After any corrective action has been taken to remediate undesirable casing pressure, either as a result of a casing pressure request denial or any other action, | within 30 days.
(f) Your fixed platform well production casings (A annulus) has pressure exceeding 10 percent of its minimum internal yield pressure (MIYP), except for production casings on active gas lift, | once per year, not to exceed 12 months between tests.
(g) Your fixed platform well's outer casing (B, C, D, etc., annuli) has a pressure exceeding 20 percent of its MIYP, | once every 5 years, at a minimum.

§ 250.523 How long do I keep records of casing pressure and diagnostic tests?

Records of casing pressure and diagnostic tests must be kept at the field office nearest the well for a minimum of 2 years. The last casing diagnostic test for each casing or riser must be retained at the field office nearest the well until the well is abandoned.

§ 250.524 When am I required to take action from my casing diagnostic test?

You must take action if you have any of the following conditions:

(a) Any fixed platform well with a casing pressure exceeding its maximum allowable wellhead operating pressure (MAWOP);

(b) Any fixed platform well with a casing pressure that is greater than 100 psig and that cannot bleed to 0 psig through a ½ inch needle valve within 24 hours, or is not bled to 0 psig during a casing diagnostic test;

(c) Any well that has demonstrated tubing/casing, tubing/riser, casing/casing, riser/casing, or riser/riser communication;

(d) Any well that has sustained casing pressure (SCP) and is bled down to prevent it from exceeding its MAWOP;

(e) Any hybrid well with casing or riser pressure exceeding 100 psig; or

(f) Any subsea well with a casing pressure 100 psig greater than the external hydrostatic pressure at the subsea wellhead.

§ 250.525 What do I submit if my casing diagnostic test requires action?

Within 14 days after you perform a casing diagnostic test requiring action under § 250.524:

You must submit either: | Submit to the appropriate: | Submittal must include: | You must also:
(a) A notification of corrective action; or | District Manager and copy the Regional Supervisor, Field Operations | requirements of § 250.526 | submit an Application for Permit to Modify or Corrective Action Plan within 30 days of the diagnostic test.
(b) A casing pressure request. | Regional Supervisor, Field Operations | requirements of § 250.527

§ 250.526 What must I include in my notification of corrective action?

The following information must be included in the notification of corrective action:

(a) Lessee or Operator name;

(b) Area name, OCS block number;

(c) Well name and API number; and

(d) Casing diagnostic test data.

§ 250.527 What must I include in my casing pressure request?

The following information must be included in the casing pressure request:

(a) API number;

(b) Lease number;

(c) Area name and number;

(d) Well number;

(e) Company name and mailing address;

(f) All casing, riser, and tubing sizes, weights, grades, and MIYP;

(g) All casing/riser calculated MAWOPs;

(h) All casing/riser pre-bleed down pressures;

(i) Shut-in tubing pressure;

(j) Flowing tubing pressure;

(k) Date and the calculated daily production rate during last well test (oil, gas, basic sediment, and water);

(l) Well status (shut-in, temporarily abandoned, producing, injecting, or gas lift);

(m) Well type (dry tree, hybrid, or subsea);

(n) Date of diagnostic test;

(o) Well schematic;

(p) Water depth;

(q) Volumes and types of fluid bled from each casing or riser evaluated;

(r) Type of diagnostic test performed:

(1) Bleed down/buildup test;

(2) Shut-in the well and monitor the pressure drop test;

(3) Constant production rate and decrease the annular pressure test;

(4) Constant production rate and increase the annular pressure test;

(5) Change the production rate and monitor the casing pressure test; and

(6) Casing pressure and tubing pressure history plot;

(s) The casing diagnostic test data for all casing exceeding 100 psig;

(t) Associated shoe strengths for casing shoes exposed to annular fluids;

(u) Concentration of any H2S that may be present;

(v) Whether the structure on which the well is located is manned or unmanned;

(w) Additional comments; and

(x) Request date.

§ 250.528 What are the terms of my casing pressure request?

Casing pressure requests are granted by the Regional Supervisor, Field Operations for a term to be determined by the Regional Supervisor on a case-by-case basis. The Regional Supervisor may impose additional restrictions or requirements to allow continued operation of the well.

§ 250.529 What if my casing pressure request is denied?

(a) If your casing pressure request is denied, then the operating company must submit plans for corrective action to the respective District Manager within 30 days of receiving the denial. The District Manager will establish a specific time period in which this corrective action will be taken. You must notify the respective District Manager within 30 days after completion of your corrected action.

(b) You must submit the casing diagnostic test data to the appropriate Regional Supervisor, Field Operations within 14 days of completion of the diagnostic test required under § 250.522(e).

§ 250.530 When does my casing pressure request become invalid?

A casing pressure request becomes invalid when:

(a) The casing or riser pressure increases by 200 psig over the granted casing pressure request pressure;

(b) The approved term ends;

(c) The well is worked-over, side-tracked, redrilled, recompleted, or acid stimulated;

(d) A different casing or riser on the same well requires a casing pressure request; or

(e) A well has more than one casing operating under a casing pressure request and one of the casing pressure requests become invalid, then all casing pressure requests for that well become invalid.

5. Revise § 250.617(c) to read as follows:

* * * * *

§ 250.617 Tubing and wellhead equipment.

* * * * *

(c) When reinstalling the tree you must:

(1) Equip wells to monitor for casing pressure according to the following chart:

If you have . . . | you must equip . . . | so you can monitor . . .
(i) Fixed platform wells, | the wellhead | all annuli (A, B, C, D, etc., annuli).
(ii) Subsea wells, | the tubing head | the production casing annulus (A annulus).
(iii) Hybrid ¹ wells, | the surface wellhead | all annuli at the surface (A and B riser annuli). If the production casing below the mudline and the production casing riser above the mudline are pressure isolated from each other, provisions must be made to monitor the production casing below the mudline for casing pressure.
¹ Characterized as a well drilled with a subsea wellhead and completed with a surface casing head, a surface tubing head, a surface tubing hangar, and a surface christmas tree.

(2) Follow the casing pressure management requirements in subpart E of this part.

* * * * *

[FR Doc. E9-17874 Filed 7-30-09; 8:45 am]

BILLING CODE 4310-MR-P